SECURITIES AND EXCHANGE COMMISSION

[File No. 500-1]

Bravo Resource Partners, Ltd., First Potash Corp., HIP Energy Corporation, Musgrove Minerals Corp., and Starcore International Ventures Ltd. (a/k/a Starcore International Mines Ltd.); Order of Suspension of Trading

December 22, 2015.

It appears to the Commission that there is a lack of current and accurate information concerning the securities of Bravo Resource Partners, Ltd. (“BRPNF”) (CIK No. 1116137), a Yukon corporation located in Englewood, Colorado with a class of securities registered with the Commission pursuant to Exchange Act Section 12(g) because it is delinquent in its periodic filings with the Commission, having not filed any periodic reports since it filed a Form 10-Q for the period ended October 31, 2011. On April 22, 2015, Corporation Finance sent a delinquency letter to BRPNF requesting compliance with its periodic filing requirements but BRPNF did not receive the delinquency letter due to its failure to maintain a valid address on file with the Commission as required by Commission rules (Rule 301 of Regulation S-T, 17 CFR 232.301 and Section 5.4 of EDGAR Filer Manual). As of December 9, 2015, the common stock of BRPNF was quoted on OTC Link, had two market makers, and was eligible for the “piggyback” exception of Exchange Act Rule 15c2-11(f)(3).

It appears to the Commission that there is a lack of current and accurate information concerning the securities of First Potash Corp. (“SALTF”) (CIK No. 1490078), a British Columbia corporation located in Tucson, Arizona with a class of securities registered with the Commission pursuant to Exchange Act Section 12(g) because it is delinquent in its periodic filings with the Commission, having not filed any periodic reports since it filed a Form 20-F for the period ended February 29, 2012. On April 28, 2015, Corporation Finance sent a delinquency letter to SALTF requesting compliance with its periodic filing requirements but SALTF did not receive the delinquency letter due to its failure to maintain a valid address on file with the Commission as required by Commission rules (Rule 301 of Regulation S-T, 17 CFR 232.301 and Section 5.4 of EDGAR Filer Manual). As of December 9, 2015, the common shares of SALTF were quoted on OTC Link, had four market makers, and were eligible for the “piggyback” exception of Exchange Act Rule 15c2-11(f)(3).

It appears to the Commission that there is a lack of current and accurate information concerning the securities of HIP Energy Corporation (“HIPCF”) (CIK No. 1123839), a British Columbia corporation located in West Vancouver, BC, Canada with a class of securities registered with the Commission pursuant to Exchange Act Section 12(g) because it is delinquent in its periodic filings with the Commission, having not filed any periodic reports since it filed a Form 20-F for the period ended November 30, 2011. On April 15, 2014, Corporation Finance sent a delinquency letter to HIPCF requesting compliance with its periodic filing requirements but HIPCF did not receive the delinquency letter due to its failure to maintain a valid address on file with the Commission as required by Commission rules (Rule 301 of Regulation S-T, 17 CFR 232.301 and Section 5.4 of EDGAR Filer Manual). As of December 9, 2015, the common shares of HIPCF were quoted on OTC Link, had four market makers, and were eligible for the “piggyback” exception of Exchange Act Rule 15c2-11(f)(3).

It appears to the Commission that there is a lack of current and accurate information concerning the securities of Musgrove Minerals Corp. (“MGSGF”) (CIK No. 1396368), a British Columbia corporation located in Vancouver, British Columbia, Canada with a class of securities registered with the Commission pursuant to Exchange Act Section 12(g) because it is delinquent in its periodic filings with the Commission, having not filed any periodic reports since it filed a Form 20-F for the period ended November 30, 2007. On April 28, 2015, Corporation Finance sent a delinquency letter to MGSGF requesting compliance with its periodic filing requirements but MGSGF did not receive the delinquency letter due to its failure to maintain a valid address on file with the Commission as required by Commission rules (Rule 301 of Regulation S-T, 17 CFR 232.301 and Section 5.4 of EDGAR Filer Manual). As of December 9, 2015, the common shares of MGSGF were quoted on OTC Link, had four market makers, and were eligible for the “piggyback” exception of Exchange Act Rule 15c2-11(f)(3).

It appears to the Commission that there is a lack of current and accurate information concerning the securities of Starcore International Ventures Ltd. (a/k/a Starcore International Mines Ltd.) (“SHVLF”) (CIK No. 1301713), a British Columbia corporation located in Vancouver, British Columbia, Canada with a class of securities registered with the Commission pursuant to Exchange Act Section 12(g) because it is delinquent in its periodic filings with the Commission, having not filed any periodic reports since it filed a Form 20-FR-12G on August 31, 2004. On February 19, 2015, Corporation Finance sent a delinquency letter to SHVLF requesting compliance with its periodic filing requirements but SHVLF did not receive the delinquency letter due to its failure to maintain a valid address on file with the Commission as required by Commission rules (Rule 301 of Regulation S-T, 17 CFR 232.301 and Section 5.4 of EDGAR Filer Manual). As of December 9, 2015, the common shares of SHVLF were quoted on OTC Link, had seven market makers, and were eligible for the “piggyback” exception of Exchange Act Rule 15c2-11(f)(3).

The Commission is of the opinion that the public interest and the protection of investors require a suspension of trading in the securities of the above-listed companies. Therefore, it is ordered, pursuant to Section 12(k) of the Securities Exchange Act of 1934, that trading in the securities of the above-listed companies is suspended for the period from 9:30 a.m. EST on December 22, 2015, through 11:59 p.m. EST on January 6, 2016.

By the Commission.
Jill M. Peterson,
Assistant Secretary.

[FR Doc. 2015-32576 Filed 12-22-15; 4:15 pm]

BILLING CODE P